DEPARTMENT OF TRANSPORTATION

Federal Aviation Administration

14 CFR Part 39

[Docket No. FAA-2004-18597; Directorate Identifier 2004-CE-21-AD; Amendment 39-13934; AD 2005-01-10]

RIN 2120-AA64

Airworthiness Directives; The New Piper Aircraft, Inc. Models PA-23-235, PA-23-250, and PA-E23-250 Airplanes

AGENCY: Federal Aviation Administration (FAA), DOT.

ACTION: Final rule.

SUMMARY: The FAA adopts a new airworthiness directive (AD) that supersedes Airworthiness Directive (AD) 74-06-01, which applies to certain The New Piper Aircraft, Inc. (Piper) Models PA-23-235, PA-23-250, and PA-E23-250 airplanes equipped with Garrett Aviation Services (Garrett) (formerly AiResearch) turbosuperchargers installed under supplemental type certificate (STC) SA852WE, SA909WE, or SA978WE; or installed under Piper Aircraft Drawing Number 32016. AD 74-06-01 currently requires you to replace turbosupercharger oil tanks, install fire shrouds, seal all openings in the fire shrouds, and add drainage provisions in the oil tank fairings for airplane serial numbers 27-1 through 27-2504; and add drainage provisions in the air scoops on serial numbers 27-2505 and higher. This AD requires you to replace the oil reservoir and related hoses with a fireproof oil tank and fire-shielded hoses. This AD results from a report of a fatal accident related to the breakdown of the turbocharger oil reservoir following a fire in the engine nacelle. We are issuing this AD to prevent turbosupercharger oil reservoirs with inadequate fire resistance from failing when exposed to flame or exhaust gases. This failure could lead to an in-flight fire within the nacelle area penetrating the firewall and subsequent failure of the wing spar.

DATES: This AD becomes effective on February 22, 2005.

As of February 22, 2005, the Director of the Federal Register approved the incorporation by reference of certain publications listed in the regulation.

ADDRESSES: You may get the service information identified in this AD from:

—For any installation under supplemental type certificate (STC) SA852WE, SA909WE, or SA978WE: The Nordam Group, Nacelle/Thrust Reverser Division, 6911 N. Whirlpool Drive, Tulsa, OK 74117; telephone: (918) 878-4000; facsimile: (918) 878-4808; and

—For any installation under Piper Aircraft Drawing Number 32016: The New Piper Aircraft, Inc., 2926 Piper Drive, Vero Beach, Florida, 32960; and The Nordam Group, Nacelle/Thrust Reverser Division, 6911 N. Whirlpool Drive, Tulsa, OK 74117; telephone: (918) 878-4000; facsimile: (918) 878-4808.

To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-18597.

FOR FURTHER INFORMATION CONTACT: Roger Pesuit, Aerospace Engineer, FAA, Los Angeles Aircraft Certification Office, 3960 Paramount Boulevard, Lakewood, CA 90712-4137; telephone: (562) 627-5251; facsimile: (562) 627-5210.

SUPPLEMENTARY INFORMATION:

Discussion

What events have caused this AD? The need to minimize fire hazards in the engine compartment on The New Piper Aircraft, Inc. (Piper) Models PA-23-235, PA-23-250, and PA-E23-250 airplanes equipped with AiResearch turbosuperchargers installed under supplemental type certificate (STC) SA852WE, SA909WE, or SA978WE; or installed under Piper Aircraft Drawing 32016 caused FAA to issue AD 74-06-01, Amendment 39-1977. AD 74-06-01 currently requires the following on any Piper Models PA-23-235, PA-23-250, and PA-E23-250 airplanes equipped with AiResearch turbosuperchargers installed under STC SA852WE, SA909WE, or SA978WE; or installed under Piper Aircraft Drawing Number 32016:

—Replacing the existing turbosupercharger oil tanks;

—installing fire shrouds;

—sealing all openings in the fire shrouds;

—(for airplane serial numbers 27-1 through 27-2504) adding drainage provisions in the oil tank fairings; and

—(for airplane serial numbers 27-2505 and higher) adding drainage provisions in the air scoops.

What has happened since AD 74-06-01 to initiate this action? The FAA has received a report of a fatal accident related to the breakdown of the turbosupercharger oil reservoir. A Piper Model PA 23-250 airplane equipped with the STC turbocharger installation was involved in a fatal accident. The accident investigation revealed a breakdown of the turbosupercharger oil reservoir. Examination of the aircraft wreckage revealed evidence of an in-flight fire where the turbosupercharger oil reservoir was burned to include the rear firewall portion of the reservoir allowing fire to move aft, softening the wing spar.

What is the potential impact if FAA took no action? Failure of the turbosupercharger oil reservoir when exposed to flame or exhaust gases could lead to an in-flight fire and failure of the wing spar.

Has FAA taken any action to this point? We issued a proposal to amend part 39 of the Federal Aviation Regulations (14 CFR part 39) to include an AD that would apply to certain Piper Models PA-23-235, PA-23-250, and PA-E23-250 airplanes equipped with Garrett Aviation Services (Garrett) (formerly AiResearch) turbosuperchargers installed under STC SA852WE, SA909WE, or SA978WE; or installed under Piper Aircraft Drawing Number 32016. This proposal was published in the Federal Register as a notice of proposed rulemaking (NPRM) on September 22, 2004 (69 FR 56733).

The NPRM proposed to supersede AD 74-06-01, which applies to certain Piper Models PA-23-235, PA-23-250, and PA-E23-250 airplanes equipped with Garrett Aviation Services (Garrett) (formerly AiResearch) turbosuperchargers installed under STC SA852WE, SA909WE, or SA978WE; or installed under Piper Aircraft Drawing Number 32016. AD 74-06-01 currently requires you to replace turbosupercharger oil tanks, install fire shrouds, seal all openings in the fire shrouds, and add drainage provisions in the oil tank fairings for airplane serial numbers 27-1 through 27-2504; and the NPRM proposed to require you to add drainage provisions in the air scoops on serial numbers 27-2505 and higher.

Comments

Was the public invited to comment? We provided the public the opportunity to participate in developing this AD. The following presents the comment received on the proposal and FAA's response to the comment:

Comment Issue: Require Installation of FAA-Approved Parts Manufacturer Approval (PMA) Parts

What is the commenter's concern? The commenter recommends that FAA revise the AD to require installation of FAA-approved PMA parts. Further, the commenter writes that the proposed AD requires replacement of parts installed under an STC. The parts proposed to be installed have not been approved under 14 CFR 21.303(a). Therefore, the commenter states that the parts are not eligible for installation.

What is FAA's response to the concern? The FAA concurs that the AD should require the installation of PMA parts. However, incorporating the service bulletin, either standard parts or PMA parts are required. Therefore, we do not feel that a rewrite of the AD is necessary. Note that the first two sets of parts shipped omitted the PMA identification. The recipients of these were notified and arrangements made to exchange these parts for those having appropriate PMA identification. All subsequent shipments contain the required PMA identification.

We are not changing the final rule AD action based on these comments.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—do not add any additional burden upon the public than was already proposed in the NPRM.

Docket Information

Where can I go to view the docket information? You may view the AD docket that contains information relating to this subject in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 250 airplanes in the U.S. registry.

What is the cost impact of this AD on owners/operators of the affected airplanes? We estimate the following costs to do the modification:

Labor cost | Parts cost | Total cost per airplane | Total cost on U.S. operators
14 workhours × $65 per hour = $910 | $2,500 | $3,410 | $852,500

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-18597; Directorate Identifier 2004-CE-21-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 74-06-01, Amendment 39-1977, and by adding a new AD to read as follows:

2005-01-10 The New Piper Aircraft, Inc.: Amendment 39-13934; Docket No. FAA-2004-18597; Directorate Identifier 2004-CE-21-AD.

When Does This AD Become Effective?

(a) This AD becomes effective on February 22, 2005.

What Other ADs Are Affected by This Action?

(b) This AD supersedes AD 74-06-01.

What Airplanes Are Affected by This AD?

(c) This AD affects Models PA-23-235, PA-23-250, and PA-E23-250 airplanes, all serial numbers, that are

(1) certificated in any category; and

(2) equipped with Garrett Aviation Services (Garrett) (formerly AiResearch) turbosuperchargers installed under supplemental type certificate (STC) SA852WE, SA909WE, or SA978WE; or installed under The New Piper, Inc. (Piper) Aircraft Drawing Number 32016.

Note: Piper manufactured the majority of affected airplanes with the turbocharger system. The turbocharger system installed under Piper Aircraft Drawing Number 32016 (STC SA909WE) was a factory option on the Piper Model PA-23-250 or PA-E23-250 with serial numbers 27-2505 through 27-3943.

What is the Unsafe Condition Presented in This AD?

(d) This AD is the result of a report of a fatal accident related to the breakdown of the turbocharger oil reservoir following a fire in the engine nacelle. The actions specified in this AD are intended to prevent turbosupercharger oil reservoirs with inadequate fire resistance from failing when exposed to flame or exhaust gases. This failure could lead to an in-flight fire within the nacelle area penetrating the firewall and subsequent failure of the wing spar.

What Must I do to Address This Problem?

(e) To address this problem, you must do the following:

Actions | Compliance | Procedures
(1) For any turbosupercharger installation under supplemental type certificate (STC) SA852WE, SA909WE, or SA978WE: | Within the next 100 hours time-in-service (TIS) after February 22, 2005 (the effective date of this AD), unless already done | Follow the procedures in Garrett Aviation Service Bulletin No. 1002143, Revision A, dated June 18, 2004. (i) Replace any oil reservoir (part number (P/N) 286-P23-028-81 or 286-P23-028-111, or FAA-approved equivalent P/N) with a fireproof oil tank (P/N 10ND79200-1 or 10ND79200-3, or FAA-approved equivalent P/N); and (ii) Replace the installed oil reservoir hoses with fire-shielded hoses.
(2) For any turbosupercharger installation under Piper Aircraft Drawing Number 32016: | Within the next 100 hours TIS after February 22, 2005 (the effective date of this AD), unless already done | Follow the procedures in The New Piper Aircraft, Inc. Vendor Service Publication No. 166, dated August 20, 2004 and the procedures in Garrett Aviation Service Bulletin No. 1002143, Revision A, dated June 18, 2004. (i) Replace any oil reservoir (P/N 286-P23-028-81 or 286-P23-028-111, or FAA-approved equivalent P/N) with a fireproof oil tank (P/N 10ND79200-1 or 10ND79200-3, or FAA-approved equivalent P/N); and (ii) Replace the installed oil reservoir hoses with fire-shielded hoses.
(3) For any turbosupercharger installation under STC SA852WE, SA909WE, or SA978WE; or Piper Aircraft Drawing Number 32016: Do not install any oil reservoir (P/N 286-P23-028-81 or 286-P23-028-111, or FAA-approved equivalent P/N). Do not install any oil reservoir hose that is not fire-shielded | As of February 22, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Los Angeles Aircraft Certification Office (ACO), FAA. For information on any already approved alternative methods of compliance, contact Roger Pesuit, Aerospace Engineer, FAA, Los Angeles ACO, 3960 Paramount Boulevard, Lakewood, CA 90712-4137; telephone: (562) 627-5251; facsimile: (562) 627-5210.

Does This AD Incorporate Any Material by Reference?

(g) You must do the actions required by this AD following the instructions in The New Piper Aircraft, Inc. Vendor Service Publication No. 166, dated August 20, 2004, and the procedures in Garrett Aviation Service Bulletin No. 1002143, Revision A, dated June 18, 2004. The Director of the Federal Register approved the incorporation by reference of these service bulletins in accordance with 5 U.S.C. 552(a) and 1 CFR part 51. To get a copy of this service information, contact: (for any installation under STC SA852WE, SA909WE, or SA978WE) The Nordam Group Nacelle/Thrust Reverser Systems Division, 6911 N. Whirlpool Drive, Tulsa, OK 74117 telephone: (918) 878-4000; facsimile: (918) 878-4808; and (for any installation under Piper Aircraft Drawing Number 32016) The New Piper Aircraft, Inc., 2926 Piper Drive, Vero Beach, Florida, 32960; and The Nordam Group Nacelle/Thrust Reverser Systems Division 6911 N. Whirlpool Drive, Tulsa, OK 74117 telephone: (918) 878-4000; facsimile: (918) 878-4808. To review copies of this service information, go to the National Archives and Records Administration (NARA). For information on the availability of this material at NARA, go to: http://www.archives.gov/ federal_register/ code_of_federal_ regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-18597.

Issued in Kansas City, Missouri, on December 28, 2004.
David A. Downey,
Acting Manager, Small Airplane Directorate, Aircraft Certification Service.

[FR Doc. 05-184 Filed 1-6-05; 8:45 am]

BILLING CODE 4910-13-P